DEPARTMENT OF HEALTH AND HUMAN SERVICES (HHS)

Administration on Aging

Public Information Collection Requirement Submitted to the Office of Management and Budget for Clearance

AGENCY: Administration on Aging, HHS.

SUMMARY: The Administration on Aging (AoA), Department of Health and Human Services, in compliance with the Paperwork Reduction Act (Pub. L. 96-511), is submitting to the Office of Management and Budget for clearance and approval an information collection instrument, entitled Performance (Progress) Reports for Title IV Grantees.

Type of Request: Extension of currently approved collection.

Use: Consistent with 45 CFR part 74, subpart J, the AoA requires grantees funded under Title IV of the Older Americans Act to report on the performance of their projects. The report is used by the AoA to review and monitor the grantee's progress in achieving project objectives, to provide advice and assistance, and to take corrective action as necessary.

Frequency: Semiannual.

Respondent: Title IV grantees.

Estimated number of respondents: 199.

Estimated burden hours: 20 hours for each semiannual report.

Additional Information: Each progress report, typically five pages in length, is expected to cover the following subjects: recent major activities and accomplishments, problems encountered, significant findings and events, dissemination activities, and activities planned for the next 6 months.

OMB Comment: A comment is best assured of having its full effect if OMB receives it as soon as possible after its publication. Written comments and recommendations for the proposed information collection should be sent to the following address within 30 days of the publication of this notice: Office of Information and Regulatory Affairs, Attention: Allison Herron Eydt, AoA Desk Officer, Office of Management and Budget, Washington, DC 20503.

Dated: June 28, 2001.
Norman L. Thompson,
Acting Principal Deputy Assistant Secretary for Aging.

[FR Doc. 01-16830 Filed 7-3-01; 8:45 am]

BILLING CODE 4154-01-P